DEPARTMENT OF AGRICULTURE

Forest Service

Notice of a New Fee Site; Federal Lands Recreation Enhancement Act (Title VIII, Pub. L. 108-447)

AGENCY: USDA Forest Service, Chequamegon-Nicolet National Forest USDA.

ACTION: Notice.

SUMMARY: The Chequamegon-Nicolet National Forest is proposing to begin charging a $5.00 daily user fee or accept the $20 annual user vehicle sticker at the Beck Road Trailhead based upon other Forest Service multiple use trailhead facilities across the Forest. The newly constructed Beck Road Trailhead on the Chequamegon-Nicolet National Forest will provide a much needed trailhead facility for the public to utilize to enjoy the motorized and non-motorized trails and routes south of U.S. Highway 2. This site will also assist in helping to increase the amount of visitation to the local communities of Drummond, Barnes, Cable, Delta, and Iron River. The funds collected at the Beck Road Trailhead will be used for the year round operation and maintenance of this site. People are invited to comment on this proposal.

DATES: Effective Date: The Beck Road Trailhead was posted for a one year comment period pertaining to the implementation of use fees on March 18, 2009. All comments must be received no later than July 15, 2010 so they can be compiled, analyzed and shared with the Region 9 Recreation Resource Advisory Committee.

ADDRESSES: Forest Supervisor, Chequamegon-Nicolet National Forest, 500 Hanson Lake Road, Rhinelander, WI 54501.

FOR FURTHER INFORMATION CONTACT: Teresa Maday, Assistant Ranger for Recreation and Lands, (715) 373-2667.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation.

Dated: June 8, 2010.
Anthony Erba,
Chequamegon-Nicolet National, Acting Forest Supervisor.

[FR Doc. 2010-14376 Filed 6-14-10; 8:45 am]

BILLING CODE 3410-11-P